DEPARTMENT OF HOMELAND SECURITY

Federal Emergency Management Agency

[Docket ID FEMA-2008-0010]

Board of Visitors for the National Fire Academy

AGENCY: Federal Emergency Management Agency, DHS.

ACTION: Committee management; Notice of open Federal Advisory Committee meeting.

SUMMARY: The Board of Visitors for the National Fire Academy (Board) will meet via teleconference on March 16, 2018. The meeting will be open to the public.

DATES: The meeting will take place on Friday, March 16, 2018, 1:30 p.m. to 3:30 p.m. Eastern Daylight Time. Please note that the meeting may close early if the Board has completed its business.

ADDRESSES: Members of the public who wish to participate in the teleconference should contact Ruth MacPhail as listed in the FOR FURTHER INFORMATION CONTACT section by close of business March 9, 2018, to obtain the call-in number and access code. For information on services for individuals with disabilities or to request special assistance, contact Ruth MacPhail as soon as possible.

To facilitate public participation, we are inviting public comment on the issues to be considered by the Board as listed in the SUPPLEMENTARY INFORMATION section. There will be a 10-minute comment period after each agenda item for registered speakers or comments must be submitted in writing no later than March 9, 2018. Comments must be identified by Docket ID FEMA-2008-0010 and may be submitted by one of the following methods:

• Federal eRulemaking Portal: http://www.regulations.gov. Follow the instructions for submitting comments.

• Email: FEMA-RULES@fema.dhs.gov. Include the docket number in the subject line of the message.

• Mail/Hand Delivery: Ruth MacPhail, 16825 South Seton Avenue, Emmitsburg, Maryland 21727, post-marked no later than March 9, 2018.

Instructions: All submissions received must include the words “Federal Emergency Management Agency” and the Docket ID for this action. Comments received will be posted without alteration at http://www.regulations.gov, including any personal information provided.

Docket: For access to the docket to read background documents or comments received by the National Fire Academy Board of Visitors, go to http://www.regulations.gov, click on “Advanced Search,” then enter “FEMA-2008-0010” in the “By Docket ID” box, then select “FEMA” under “By Agency,” and then click “Search.”

Registered speakers will be given no more than 2 minutes to speak. Please note that the public comment period may end before the time indicated, following the last call for comments. Contact Ruth MacPhail to register as a speaker.

FOR FURTHER INFORMATION CONTACT: Alternate Designated Federal Officer: Tonya L. Hoover, telephone (301) 447-1117, email Tonya.Hoover@fema.dhs.gov.

Logistical Information: Ruth MacPhail, telephone (301) 447-1333 and email Ruth.Macphail@fema.dhs.gov.

SUPPLEMENTARY INFORMATION: Notice of this meeting is given under the Federal Advisory Committee Act, 5 U.S.C. App.

Purpose of the Board

The purpose of the Board is to review annually the programs of the National Fire Academy (Academy) and advise the Administrator of the Federal Emergency Management Agency (FEMA), through the United States Fire Administrator, on the operation of the Academy and any improvements therein that the Board deems appropriate. In carrying out its responsibilities, the Board examines Academy programs to determine whether these programs further the basic missions that are approved by the Administrator of FEMA, examines the physical plant of the Academy to determine the adequacy of the Academy's facilities, and examines the funding levels for Academy programs. The Board submits a written annual report through the United States Fire Administrator to the Administrator of FEMA. The report provides detailed comments and recommendations regarding the operation of the Academy.

Agenda

1. The Board will receive updates on U.S. Fire Administration data, research, and response support initiatives.

2. The Board will receive updates on deferred maintenance and capital improvements on the National Emergency Training Center campus and budget planning.

3. The Board will deliberate and vote on recommendations on Academy program activities, including:

• Fire and Emergency Services Higher Education (FESHE) Recognition Program update, a certification program acknowledging that a collegiate emergency services degree meets the minimum standards of excellence established by FESHE development committees and the Academy;

• The National Professional Development Summit to be held on June 13-16, 2018, an annual event which brings national training and education audiences together for their conference and support initiatives;

• The Managing Officer Program progress report including application selection results, a multiyear curriculum that introduces emerging emergency services leaders to personal and professional skills in change management, risk reduction, and adaptive leadership;

• The Executive Fire Officer (EFO) Program Symposium to be held April 6-8, 2018, an annual event for alumni which recognizes outstanding applied research completed by present EFO Program participants, recognizes recent EFO Program graduates, provides high-quality presentations offered by private and public sector representatives, facilitates networking between EFO Program graduates, promotes further dialog between EFO Program graduates and U.S. Fire Administrator and National Fire Academy faculty and staff;

• Curriculum development and revision updates for Academy courses;

• Discussion on the approval process for state-specific courses;

• Distance learning program update (mediated and self-study);

• State training delivery update;

• NFA Technology Workgroup Initiative, discuss initiating a forum to address current issues and initiate a plan for NFA's future technology needs;

• Staffing update.

4. The Board will receive activity reports on the National Fire Incident Reporting System Subcommittee, the Professional Development Initiative Subcommittee, and four EFO Program Review Subcommittees: Admissions, Curriculum, Delivery and Design, and Evaluations and Outcomes.

Meeting materials will be posted no later than March 9, 2018 at https://www.usfa.fema.gov/training/nfa/about/bov.html.

Dated: February 15, 2018.
Tonya L. Hoover,
Superintendent, National Fire Academy, United States Fire Administration, Federal Emergency Management Agency.

[FR Doc. 2018-03956 Filed 2-26-18; 8:45 am]

BILLING CODE 9111-45-P